CORPORATION FOR NATIONAL AND COMMUNITY SERVICE

Submission for OMB Emergency Review

AGENCY: Corporation for National and Community Service.

ACTION: Notice of information collection.

SUMMARY: The Corporation for National and Community Service, operating as AmeriCorps, has submitted a public information collection request (ICR) entitled COVID-19 Service Activity Reporting for review and approval in accordance with the Paperwork Reduction Act.

DATES: Unfortunately, since AmeriCorps is requesting OMB's approval of this emergency request by March 18, 2021, there will not be enough time for the public to provide comments through this Federal Register Notice before the requested approval date. Therefore, there will be no comment period for this request.

FOR FURTHER INFORMATION CONTACT: Copies of this ICR, with applicable supporting documentation, may be obtained by calling AmeriCorps, Robin Corindo, at 202-489-5578 or by email to rcorindo@cns.gov.

SUPPLEMENTARY INFORMATION: AmeriCorps Seniors has proposed an electronic collection technique of an online survey as a way to minimize the burden of the collection of the information. The survey will be submitted only once per grantee and estimated time for completion is less than 30 minutes, based on staff testing of the survey. The survey will be submitted electronically, can be completed across multiple technical platforms, and questions have been crafted for ease of reporting and efficient collection. The survey will be complemented with an in-depth set of instructions. Staff will also be available to provide individualized assistance, if needed.

Comments

Title of Collection: AmeriCorps Seniors Alternative Service Plan Reporting.

OMB Control Number: 3045-0035 Type of Review: New Information Collection.

Respondents/Affected Public: Nonprofit organizations that are grantees of AmeriCorps Seniors.

Total Estimated Number of Annual Responses: 1,100.

Total Estimated Number of Annual Burden Hours: 550 hours.

Abstract: The information provided by the survey will enable AmeriCorps to learn if and how current grantees are engaged in service during the COVID-19 pandemic.

Additionally, it provides information to AmeriCorps Seniors about how soon grantees can begin in-person service activities and the likelihood they can do so. This will enable AmeriCorps Seniors to better target training and technical assistance to grantees. Information collected will also influence the decision as to extending the March 31 deadline of the temporary allowance—the small payments made to volunteers who are unable to serve due to COPVID-19—in lieu of their traditional stipend.

Dated: March 10, 2021.
Atalaya Jones Sergi,
Director, AmeriCorps Seniors.

[FR Doc. 2021-05313 Filed 3-12-21; 8:45 am]

BILLING CODE 6050-28-P